UNITED STATES SENTENCING COMMISSION

Sentencing Guidelines for United States Courts

AGENCY: United States Sentencing Commission.

ACTION: Notice of final priorities.

SUMMARY: In June 2005, the Commission published a notice of possible policy priorities for the amendment cycle ending May 1, 2006. See 70 FR 37145 (June 28, 2005). After reviewing public comment received pursuant to the notice of proposed priorities, the Commission has identified its policy priorities for the upcoming amendment cycle and hereby gives notice of these policy priorities.

FOR FURTHER INFORMATION CONTACT: Michael Courlander, Public Affairs Officer, Telephone: (202) 502-4590.

SUPPLEMENTARY INFORMATION: The United States Sentencing Commission is an independent agency in the judicial branch of the United States Government. The Commission promulgates sentencing guidelines and policy statements for federal sentencing courts pursuant to 28 U.S.C. 994(a). The Commission also periodically reviews and revises previously promulgated guidelines pursuant to 28 U.S.C. 994(o) and submits guideline amendments to the Congress not later than the first day of May each year pursuant to 28 U.S.C. 994(p).

As part of its statutory authority and responsibility to analyze sentencing issues, including operation of the federal sentencing guidelines, the Commission has identified its policy priorities for the amendment cycle ending May 1, 2006, and possibly continuing into the amendment cycle ending May 1, 2007. While the Commission intends to address these priority issues, it recognizes that other factors, most notably changes that may be required as a result of United States v. Booker, 543 U.S. __ (2005), 125 S.Ct. 738 (2005), as well as the enactment of any legislation requiring Commission action, may affect the Commission's ability to complete work on any or all policy issues by the statutory deadline of May 1, 2006.

The Commission's policy priorities for the upcoming amendment cycle are as follows:

(1) Implementation of crime legislation enacted during the 108th Congress and the first session of the 109th Congress warranting a Commission response, including (A) the Family Entertainment and Copyright Act of 2005, Public Law 109-9; (B) the Intellectual Property Protection and Courts Amendment Act of 2004, Public Law 108-482; (C) the Anabolic Steroids Act, Public Law 108-358 (and as part of its work on this Act, examination of offenses involving human growth hormones under 21 U.S.C. 333(e)); (D) the Intelligence Reform and Terrorism Reform Act of 2004, Public Law 108-458; and (E) other legislation, amending statutory penalties and creating new offenses, that requires incorporation into the guidelines;

(2) Assessment of the Justice for All Act of 2004, Public Law 108-405, and other statutes pertaining to victims' rights;

(3) Continuation of its work with the congressional, executive, and judicial branches of the government and other interested parties on appropriate responses to United States v. Booker, including any appropriate guideline changes, and a report on the effects of Booker on federal sentencing, including an analysis of sentencing data collected within the first year of that decision;

(4) Continuation of its policy work regarding immigration offenses, specifically, offenses under §§ 2L1.1 (Smuggling, Transporting, or Harboring an Unlawful Alien) and 2L1.2 (Unlawfully Entering or Remaining in the United States), and Chapter Two, Part L, Subpart 2 (Naturalization and Passports);

(5) Continuation of its work with the congressional, executive, and judicial branches of the government and other interested parties on cocaine sentencing policy, including the update of Commission research, in view of the Commission's 2002 report to Congress, Cocaine and Federal Sentencing Policy;

(6) Review, and possible amendment, of commentary in Chapter Eight (Organizations) regarding waiver of the attorney-client privilege and work product protections;

(7) Review, and possible amendment, of guideline provisions pertaining to firearms offenses, particularly the trafficking of firearms, and of departure provisions related to firearms offenses;

(8) Consideration of policy statements pertaining to motions under 18 U.S.C. 3582(c)(1)(A)(i) for sentence reductions for “extraordinary and compelling reasons”;

(9) Resolution of a number of circuit conflicts, pursuant to the Commission's continuing authority and responsibility, under 28 U.S.C. 991(b)(1)(B) and Braxton v. United States, 500 U.S. 344 (1991), to resolve conflicting interpretations of the guidelines by the federal courts; and

(10) Review, and possible amendment, of pertinent guideline provisions to address structural issues regarding the Sentencing Table in Chapter Five, Part A, particularly “cliff-like” effects occurring between levels 42 and 43, and a possible adjustment to the offense level computation in cases in which the offense level exceeds level 43, and to address other miscellaneous and limited issues pertaining to the application of the sentencing guidelines.

Authority: 28 U.S.C. 994(a), (o); USSC Rules of Practice and Procedure 5.2.

Ricardo H. Hinojosa,
Chair.

[FR Doc. 05-17186 Filed 8-29-05; 8:45 am]

BILLING CODE 2210-40-P